DEPARTMENT OF HEALTH AND HUMAN SERVICES

Administration on Aging

Availability of Funding Opportunity Announcement

Funding Opportunity Title/Program Name: Aging and Disability Resource Center Initiative: Building Upon Success.

Announcement Type: Initial.

Funding Opportunity Number: HHS-2006-AoA-DR-0605.

Statutory Authority: The Older Americans Act, Public Law 106-501.

Catalog of Federal Domestic Assistance (CFDA) Number: 93.048, Title IV and Title II, Discretionary Projects.

Dates: The deadline date for the submission of applications is July 21, 2006.

I. Funding Opportunity Description

In FY 2003, the Administration on Aging (AoA) and the Centers for Medicare & Medicaid Services (CMS) formed a historic partnership to launch the Aging and Disability Resource Center (ADRC) demonstration grant initiative. The goal of the ADRC program is to empower individuals to make informed choices and to streamline access to long term support services. AoA and CMS share a vision to have Resource Centers in every community serving as highly visible and trusted places where people of all ages can turn for information on the full range of long term support options and a single point of entry to public long term support programs and benefits. ADRCs are a resource for both public and private-pay individuals. They serve older adults, younger individuals with disabilities, family caregivers, as well as persons planning for future long term support needs. ADRCs are also a resource for health and long term support professionals and others who provide services to older adults and to people with disabilities. Since FY 2003, 43 states have received three year grants from AoA and CMS to design and implement ADRC demonstrations serving the elderly and at least one other target population of adults with disabilities in at least one community. An ADRC Program Announcement published in FY 2003 resulted in the funding of twelve states that year with an additional twelve states funded to develop ADRC programs in FY 2004. Nineteen additional states were funded to develop ADRC programs based on a Program Announcement published in FY 2005. To view the Program Announcements published in FY 2003 and FY 2005 go to http://www.aoa.gov/prof/aging_dis/background.asp. For more information on the 43 funded ADRC projects go to www.adrc-tae.org.

This announcement seeks proposals for competitive grants to assist states funded to develop ADRCs in FY 2003 to significantly expand their existing Resource Center programs. Building on current efforts, state Resource Center programs funded under this Program Announcement will be:

(1) Expanded to provide services to additional communities, and/or;

(2) Positioned to assume the role as the only entry point to publicly funded long-term support systems, and/or;

(3) Enhanced to provide more efficient and effective access services.

A detailed description of the funding opportunity may be found at http://www.aoa.gov/doingbus/fundopp/fundopp.asp.

II. Award Information

1. Funding Instrument Type

These new grants will be issued as cooperative agreements because AoA, in cooperation with CMS, anticipates having substantial involvement with the recipients during performance of funded activities. This involvement may include collaboration, participation, or intervention in the funded activities. AoA, in cooperation with CMS, will also be involved in the development and implementation of the funded projects by way of conducting a review of the applications and providing technical assistance, training, guidance, and oversight throughout the two-year project period. Grantees will be expected to keep in contact with their Federal project officer on a regular basis. Grantees will also be expected to share all significant products that result from their projects with AoA.

2. Anticipated Total Priority Area Funding Per Budget Period

The total amount of Federal funds available for this funding opportunity is $4 million. AoA anticipates funding 10 projects nationwide for a period of up to 2 years. The maximum Federal award for the entire 2-year project period is approximately $400,000. Applicants are encouraged to develop project budgets that reflect annual Federal funding of approximately $200,000 for each project year.

III. Eligibility Criteria and Other Requirements

1. Eligible Applicants

Only states that received an AoA and CMS Aging and Disability Resource Center Grant in FY 2003 are eligible to apply. These states are Louisiana, Maine, Maryland, Massachusetts, Minnesota, Montana, New Hampshire, New Jersey, Pennsylvania, Rhode Island, South Carolina, and West Virginia.

Only the state agency that was the ADRC applicant in FY 2003, or a state agency with a Memorandum of Agreement with the existing ADRC grantee (e.g. the Single State Agency on Aging, Single State Medicaid Agency or State Agency serving the target populations of people with disabilities) may apply for this Resource Center grant. The applicant agency must have the documented support, in the form of a Memorandum of Understanding and active participation by the Single State Agency on Aging, the Single State Medicaid Agency and the State Agency(s) serving the target population(s) of people with disabilities specified in the applicant's proposal.

A letter of support from the Governor indicating high-level state executive support and designating the lead agency is also required. Only one application per state will be accepted. “State” refers to the definition provided under 45 CFR 74.2. Executive Order 12372 is not applicable to these grant applications.

2. Cost Sharing or Matching

Grantees are required to make a non-financial or cash recipient contribution (match) of a minimum of five percent (5%) of the total grant award.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address To Request Application Package

Application materials can be obtained from http://www.grants.gov or http://www.aoa.gov/doingbus/fundopp/fundopp.asp. Application materials are also available by writing to: U.S. Department of Health and Human Services, Administration on Aging, John Murphy, Center for Planning and Policy Development, Washington, DC 20201. Or by calling: 202-357-0136. Or e-mailing: john.murphy@aoa.hhs.gov.

2. Address for Application Submission

Electronic submissions must be sent to: http://www.grants.gov.

Applicants unable to submit their application via www.grants.gov may request permission to submit a hard copy from the AoA Project Officer: Greg Case: greg.case@aoa.hhs.gov. (202) 357-3442.

If you mail or hand delivers your application, you must submit one original application and two copies, plus a completed application checklist to AoA. The application deadline for applications sent by U.S. Postal Service must be post-marked by midnight July 21, 2006 or hand-delivered by 5 p.m. Eastern Time on July 21, 2006.

Submissions using the regular, U.S. Postal Service must be addressed to:Department of Health and Human Services, Administration on Aging, Grants Management Division, Washington, DC 20201. Attention: Stephen Daniels.

Submissions by courier, overnight delivery, delivered in person, etc. should be addressed to: Department of Health and Human Services, Administration on Aging, Grants Management Division, One Massachusetts Avenue, NW., Room 4604, Washington, DC 20001. Attention: Stephen Daniels.

3. Submission Dates and Times

To receive consideration, applications must be received by the deadline listed in the Dates section of this Notice.

V. Responsiveness Criteria

Each application submitted will be screened to determine whether it was received by the closing date and time.

Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

• Accomplishments and Problem Statement—Weight: 30 points

• Approach, Work Plan and Activities—Weight: 40 points

• Project Outcomes and Evaluation—Weight: 15 points

• Level of Effort (Organization and Management; Budget and Resources)—Weight: 15 points

VII. Agency Contacts

Direct inquiries regarding programmatic issues to U.S. Department of Health and Human Services, Administration on Aging, Center for Planning and Policy Development, Attention: Greg Case, Washington, DC 20201. Telephone: (202) 357-3442.

Dated: May 22, 2006.
Josefina G. Carbonell,
Assistant Secretary for Aging.

[FR Doc. E6-8047 Filed 5-24-06; 8:45 am]

BILLING CODE 4154-01-P